FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date reissued
11949N | Eastern Trans Line, Inc., 377 Route 17 South, Suite 216, Hasbrouck Heights, NJ 07604 | June 23, 2003.
15565N | International Equipment Logistics, Inc., 210 E. Essex Avenue, Avenel, NJ 07001 | June 18, 2003.
17109N | Namgene Paik dba Southern Logistic Service, 8735 Bellanca Avenue, Unit B, Los Angeles, CA 90045 | June 28, 2003.
4100NF | Trans World Shipments, Inc., 6701 NW 7th Street, Suite 100, Miami, FL 33126 | April 4, 2003.

Sandra L. Kusumoto,
Director, Bureau of Consumer Complaints and Licensing.

[FR Doc. 03-21316 Filed 8-19-03; 8:45 am]

BILLING CODE 6730-01-P